DEPARTMENT OF COMMERCE

National Institute of Standards and Technology

Meeting To Review and Solicit Input on Tests for Inclusion in the Project 25 Compliance Assessment Program

AGENCY: National Institute of Standards and Technology (NIST), Department of Commerce.

ACTION: Notice of public meeting.

SUMMARY: The U.S. Department of Commerce's (DOC) National Institute of Standards and Technology (NIST), Law Enforcement Standards Office (OLES), in partnership with the U.S. Department of Homeland Security (DHS) Office for Interoperability and Compatibility (OIC), will hold a public meeting on May 13, 2011, via teleconference. The purpose of the meeting is to gather input for the development of conformance and interoperability tests for select Project 25 (P25) conventional mode features and functionalities. These tests are developed for the DHS/OIC P25 Compliance Assessment Program (CAP) Governing Board (GB) and will be incorporated into P25 CAP Compliance Assessment Bulletins (CABs).

DATES: The meeting will be held via teleconference at 1 p.m. Eastern Daylight Time on Friday, May 13, 2011. Members of the public wishing to attend the meeting must register by Friday, May 6, 2011. Please see registration instructions in the SUPPLEMENTARY INFORMATION section below.

FOR FURTHER INFORMATION CONTACT: Dereck Orr, Department of Commerce, NIST, 300 Broadway St., Boulder, CO 80305. Telephone: (303) 497-5400. E-mail: dereck.orr@nist.gov. More information about DHS/OIC can be found at http://www.safecomprogram.gov.

SUPPLEMENTARY INFORMATION: Emergency responders—emergency medical technicians, fire personnel, and law enforcement officers—need to seamlessly exchange communications across disciplines and jurisdictions in order to successfully respond to day-to-day incidents and large-scale emergencies. P25 focuses on developing standards that allow radios and other components to interoperate, regardless of the manufacturer. In turn, these standards enable emergency responders to seamlessly exchange critical communications with other disciplines and jurisdictions.

An initial goal of P25 is to specify formal standards for interfaces between the components of a land mobile radio (LMR) system. LMR systems are commonly used by emergency responders in portable handheld and mobile vehicle-mounted devices. Although formal standards are being developed, no process is currently in place to confirm that LMR equipment advertised as P25-compliant meets all aspects of P25 standards.

To address discrepancies between P25 standards and industry equipment, DHS and NIST established the P25 CAP. The P25 CAP is a partnership between the DHS/OIC; NIST; industry; and the emergency response community.

The P25 CAP provides an independent process for evaluating P25 equipment for standards compliance and interoperability across manufacturers. By providing manufacturers with a method to consistently test their equipment for compliance with P25 standards and consistently report the results of such testing, the P25 CAP helps emergency response officials make informed purchasing decisions.

The P25 CAP requires test laboratories to demonstrate their competence through a rigorous and objective assessment process. Such a process promotes the user community's confidence in, and acceptance of, test results from DHS-recognized laboratories. All equipment suppliers that participate in the P25 CAP must use recognized laboratories to conduct performance, conformance, and interoperability tests on their products. P25 equipment suppliers will release Summary Test Reports and Suppliers' Declarations of Compliance based on testing from laboratories recognized by DHS.

Created by DHS/OIC, CABs describe how the P25 CAP operates and address issues related to the Program. The scope of a CAB can range from policy to guidance, covering issues such as specific test standards to be used for a particular P25 interface, or P25 LMR Request for Proposal guidance.

The purpose of the meeting is to gather input for the development of conformance and interoperability tests for select P25 conventional mode features and functionalities. These tests are developed for the DHS/OIC Project 25 (P25) Compliance Assessment Program (CAP) Governing Board (GB) and will be incorporated into P25 CAP Compliance Assessment Bulletins (CABs).

At the meeting, NIST will accept input on conformance or interoperability tests, or both, for the following, prioritized features and functionalities:

• Conventional squelch.

• Emergency alarm.

• Emergency group voice call.

• Group voice call.

• Radio unit monitoring.

• Transport of Talking Party Identification.

• Late Entry.

• Location Services.

• Radio unit inhibit/uninhibit.

• Unaddressed voice call.

• Encryption.

• Over The Air Rekeying (OTAR).

• Emergency Cancel.

• All Call.

At the May 13 meeting, NIST will also solicit comments on what appropriate criteria should be used for assessing a conformance tests' suitability for inclusion in the P25 CAP. The following criteria are provided as a basis for comment:

• Does the conformance test limit devices in the test environment to the device under test and appropriate, validated test equipment?

• Are all packet types tested that are relevant to the functionality under test?

• Are all call/message types tested relevant to the functionality under test?

• Is packet/message order checked relevant to the functionality under test?

• Are all information and reserved fields tested within message packets relevant to the functionality under test?

• For all information fields relevant to the feature under test, is a linearly independent set of values used across the entire allowable range?

• Where behavior of a product is specified for parameter values outside of the normal or permissible range, are these values tested?

• Is timing between subsequent packets identified?

• Is radio behavior checked if events occur before/after time-out?

• Are repeater inbound and outbound packets “paired” and timing relationship between the two quantified?

• Are all of the different combinations of status bits tested where relevant to a feature under test?

• Does the test standard define the detailed procedural steps necessary for a test operator to perform the test consistently across multiple laboratories?

Additionally, NIST is seeking comment on what appropriate criteria should be used for assessing an interoperability tests' suitability for inclusion in the P25 CAP. The following criteria are provided as a basis for comment:

• For all information fields relevant to the feature under test, is a linearly independent set of values used across the entire allowable range?

• Is timing between subsequent packets identified related to transmission or reception of voice or message/alarm examined?

• Can functionality already be tested using other P25 CAP-recognized testing criteria?

• Does the interoperability test procedure address and test adverse responses due to configurations of parameter values outside the normal or permissible range?

• Does the test procedure accommodate evaluation of a test article's behavior where multiple defined responses are possible?

• If capable, does each unit under test perform the roles of both transmitter and receiver during the test?

• Does the test provide definitive predictive outcomes (behaviors) for all articles under test?

More information about the P25 CAP is available at http://www.safecomprogram.gov. More information about NIST/OLES can be found at http://www.nist.gov/oles/.

Registration: Anyone wishing to attend this teleconference must express interest by the close of business on Friday, May 6, 2011. Please submit your name, e-mail address, and phone number to Corey Reynolds, creynolds@corneralliance.com, and he will provide logistics information for the call.

To be considered at the meeting, written comments and input on the features and functionalities and conformance and interoperability test criteria should be submitted to Corey Reynolds, creynolds@corneralliance.com by Friday, May 6, 2011. Verbal comments will also be heard at the teleconference.

Dated: April 26, 2011.
Katharine B. Gebbie,
Director, Physical Measurement Laboratory.

[FR Doc. 2011-10436 Filed 4-28-11; 8:45 am]

BILLING CODE 3510-13-P